DEPARTMENT OF THE INTERIOR

Bureau of Land Management

[LLCOF00000-L18200000-XX0000]

Notice of Resource Advisory Council Meeting for the Front Range Resource Advisory Council

AGENCY: Bureau of Land Management, Interior.

ACTION: Notice of Public Meeting.

SUMMARY: In accordance with the Federal Land Policy and Management Act of 1976 and the Federal Advisory Committee Act of 1972, the U.S. Department of the Interior, Bureau of Land Management (BLM) Front Range Resource Advisory Council (RAC), will meet as indicated below.

DATES: The meeting will be held on January 12, 2011, from 9:15 a.m. to 4 p.m.

ADDRESSES: BLM Royal Gorge Field Office (RGFO), 3028 East Main Street, Canon City, CO 81212.

FOR FURTHER INFORMATION CONTACT: Cass Cairns, Front Range RAC Coordinator (see address above) Phone: (719) 269-8553. E-mail: ccairns@blm.gov.

SUPPLEMENTARY INFORMATION: The 15-member Council advises the Secretary of the Interior, through the BLM, on a variety of planning and management issues associated with public land management in the BLM Colorado Front Range District, which includes the RGFO and the San Luis Valley Public Lands Center and its respective field offices: Saguache Field Office, Del Norte Field Office, and La Jara Field Office. Planned topics of discussion and agenda items include: Saguache Field Office's Zapata Falls Campground fee proposals, a tour and discussion of the Wild Horse Inmate Program (WHIP) at the Cañon City Correctional Facility, and manager updates on current land management issues.

The meeting at the RGFO is open to the public. The public is encouraged to make oral comments to the RAC at 9:30 a.m. Written statements may also be submitted for the RAC's consideration. The public will not be able to attend the WHIP tour due to security protocols. Summary minutes for the RAC meetings will be maintained in the RGFO and will be available for public inspection and reproduction during regular business hours within thirty (30) days following the meeting. The agenda will be available 10 days prior to each meeting at: http://www.blm.gov/rac/co/frrac/co_fr.htm.

John Mehlhoff,
Associate State Director.

[FR Doc. 2010-30062 Filed 12-8-10; 8:45 am]

BILLING CODE 4310-JB-P